DEPARTMENT OF COMMERCE

International Trade Administration

[C-552-813]

Steel Wire Garment Hangers From the Socialist Republic of Vietnam: Rescission of Countervailing Duty Administrative Review; 2017

AGENCY: Enforcement and Compliance, International Trade Administration, Department of Commerce.

SUMMARY: The Department of Commerce (Commerce) is rescinding the administrative review of the countervailing duty order (CVD) on steel wire garment hangers from the Socialist Republic of Vietnam (Vietnam) for the period January 1, 2017 through December 31, 2017.

DATES: Applicable June 12, 2018.

FOR FURTHER INFORMATION CONTACT: John Conniff, AD/CVD Operations, Office III, Enforcement and Compliance, International Trade Administration, Department of Commerce, 1401 Constitution Avenue NW, Washington, DC 20230; telephone: (202) 482-1009.

SUPPLEMENTARY INFORMATION:

Background

On April 16, 2018, based on a timely request for review by M&B Metal Products Company, Inc. (the petitioner),¹ Commerce published in the Federal Register a notice of initiation of an administrative review of the CVD order on steel wire garment hangers from Vietnam covering the period January 1, 2017, through December 31, 2017.² On April 24, 2018, the petitioner withdrew its request for all companies listed in its request and the Initiation Notice.³ No other party requested a review of these producers and/or exporters of subject merchandise.

¹ See Letter from Vorys, Sater, Seymour and Pease LLP to the U.S. Department of Commerce, regarding Steel Wire Garment Hangers from Vietnam: Request for Fifth Administrative Review,” dated February 28, 2018.

² See Initiation of Antidumping and Countervailing Duty Administrative Reviews, 83 FR 16,298 (April 16, 2018) (Initiation Notice).

³ See Letter from the petitioner, “Fifth Administrative Review of Steel Wire Garment Hangers from Vietnam—Petitioner's Withdrawal of Review Request,” dated April 24, 2018.

Rescission of Review

Pursuant to 19 CFR 351.213(d)(1), Commerce will rescind an administrative review, in whole or in part, if the party that requested the review withdraws its request within 90 days of the publication of the notice of initiation of the requested review. In this case, the petitioner timely withdrew its request by the 90-day deadline, and no other party requested an administrative review of the CVD order. As a result, pursuant to 19 CFR 351.213(d)(1), we are rescinding the administrative review of the CVD order on steel wire garment hangers from Vietnam for the period January 1, 2017, through December 31, 2017, in its entirety.

Assessment

Commerce will instruct U.S. Customs and Border Protection (CBP) to assess CVDs on all appropriate entries. Because Commerce is rescinding this administrative review in its entirety, the entries to which this administrative review pertained shall be assessed CVDs at rates equal to the cash deposit of estimated CVDs required at the time of entry, or withdrawal from warehouse, for consumption, in accordance with 19 CFR 351.212(c)(1)(i). Commerce intends to issue appropriate assessment instructions to CBP 15 days after the publication of this notice in the Federal Register.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: June 7, 2018.
James Maeder,
Associate Deputy Assistant Secretary for Antidumping and Countervailing Duty Operations performing the duties of Deputy Assistant Secretary for Antidumping and Countervailing Duty Operations.

[FR Doc. 2018-12592 Filed 6-11-18; 8:45 am]

BILLING CODE 3510-DS-P